GENERAL SERVICES ADMINISTRATION

[OMB Control No. 3090-XXXX; Docket No. 2023-0001; Sequence No. 8]

Submission for OMB Review; Data Collection for a National Evaluation of the American Rescue Plan

AGENCY: Office of Evaluation Sciences; General Services Administration (GSA).

ACTION: Notice of request for comments regarding a request for a new OMB clearance.

SUMMARY: Under the provisions of the Paperwork Reduction Act, OES is proposing new data collection activities conducted for the National Evaluation of the American Rescue Plan (ARP). The objective of this project is to provide a systematic look at the contributions of selected ARP-funded programs toward achieving equitable outcomes to inform program design and delivery across the Federal Government. The project will include in-depth, cross-cutting evaluations and data analysis of selected ARP programs, especially those with shared outcomes, common approaches, or overlapping recipient communities; and targeted, program-specific analyses to fill critical gaps in evidence needs.

DATES: Submit comments on or before May 2, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Elizabeth Martin, Program Manager, 267-455-8556 at arp.national.evaluation@gsa.gov.

SUPPLEMENTARY INFORMATION:

A. Purpose

The goal of this study is to look systematically across the selected subset of ARP programs, to provide an integrated account of whether, how, and to what extent their implementation served to achieve their intended outcomes, particularly with respect to advancing equity. More specifically, the study aims to learn how lessons from examination of ARP programs and interventions with shared outcomes, common approaches, or overlapping recipient communities may inform equitable program design and delivery across the Federal Government. The study aims to address these overarching evaluation questions:

• To what extent did ARP investments and policy interventions advance equitable outcomes for those they were designed to serve?

• What strategies contributed to the successes, and where are different strategies needed?

• Where multiple ARP programs aim to reach similar outcomes, especially among a shared population:

○ To what extent is there coordination across programs in their administration, customer experience strategies, or performance or outcome measurement practices?

○ To what extent are there collective impacts that could be attributed to more than one program? What kinds of impacts, if any, are observed?

○ What kinds of secondary effects are observed that may not be captured in targeted outcome measures?

The list of 32 programs covered in the May 2022 White House report “Advancing Equity through the American Rescue Plan” provided the scope of programs included in the National Evaluation. A partnership between the Office of Management and Budget Evidence Team and GSA's Office of Evaluation Sciences, this study is also guided by leadership from the White House ARP Implementation Team, who participate on the Steering Committee, as well as a team of agency experts across the Federal Government.

To build evidence in support of the study goals, this project includes a series of up to five in-depth, cross-cutting evaluations of selected ARP programs or recipient communities of multiple ARP program investments with shared outcomes, common approaches, or overlapping recipient groups. These evaluations will be selected based on program, population, place, community, or a combination of these factors. A mixed-methods approach is anticipated in order to ensure that appropriate attention is paid to context and that data collection and analysis methods reflect the complexity of program implementation and address the specific evaluation questions identified through the ongoing planning and consultation process.

The ARP National Evaluation will use a multiple-phased approach for this proposed information collection activity. In Phase 1 (current request) the research team seeks approval to carry out consultations with the relevant state and local agencies, community-based organizations, and program participants, including the formal recruitment process to establish community advisory boards for each of the planned in-depth evaluations.

Under subsequent phases of the request, the project will update the information collection request for the instruments tailored to each in-depth evaluation, to reflect the specific evaluation design, information collection methods and instruments, and associated burden. The proposed information collection activities cover mixed-method approaches to implement primarily outcome and process evaluations. Data collection activities for these studies may include: (1) interviews with program administrators and staff; (2) focus groups, (3) short surveys of program participants and/or eligible non-participants, and (4) data requests.

Respondents: State and local program administrators, program staff, community-based program partners, and individuals who participate or are eligible to participate in the relevant ARP programs.

B. Annual Burden Estimates

Currently, three cross-cutting in-depth evaluations are anticipated. The burden estimates below reflect the expectations for information collection and related activities associated with the conduct of those three studies, in addition to the anticipated burden for this initial, formative phase of the overall study. During Phase 1, we estimate the following: consultations with approximately 95 state and/or local program administrators or representatives from community-based organizations, recruitment of up to 9 participants for each of up to seven Community Advisory Groups established across the three studies, and the initiation of the group meetings.

The anticipated information collections to be undertaken in Phase 2 are expected to vary in their approaches to data collection and sample size. The subsequent information collection requests will describe the specific study design and associated burden for each evaluation. The estimates below include our current expectations for the burden associated with these evaluations.

Total Respondents: 1,241.

Total Annual Responses: 15.

Average Burden Hours per Response: 1.9.

Total Burden Hours: 3,034.5.

C. Public Comments

A 60-day notice published in the Federal Register at 88 FR 85621 on December 8, 2023. Two comments were received, but neither provided substantive comments relevant to this specific information collection request.

Obtaining Copies: Requesters may obtain a copy of the information collection documents from the GSA Regulatory Secretariat Division, by calling 202-501-4755 or emailing GSARegSec@gsa.gov. Please cite OMB Control No. 3090-XXXX, Data Collection for a National Evaluation of the American Rescue Plan.

Lois Mandell,
Director, Regulatory Secretariat Division, General Services Administration.

[FR Doc. 2024-06913 Filed 4-1-24; 8:45 am]

BILLING CODE 6820-TZ-P